DEPARTMENT OF HOUSING AND URBAN DEVELOPMENT

[Docket No. FR-4907-N-10]

Notice of Proposed Information Collection: Comment Request; Survey of Neighborhood Networks Centers

AGENCY: Office of the Assistant Secretary for Housing-Federal Housing Commissioner, HUD

ACTION: Notice.

SUMMARY: The proposed information collection requirement described below will be submitted to the Office of Management and Budget (OMB) for review, as required by the Paperwork Reduction Act. The Department is soliciting public comments on the subject proposal.

DATES: Comments Due Date: June 1, 2004.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Delores A. Pruden, Director, Neighborhood Networks, Office of Housing Assistance and Contract Administration Oversight, Multifamily Housing Programs, Department of Housing and Urban Development, 451 7th Street, SW., Washington, DC 20410, telephone (202) 708-4135 x2496 (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond, including the use of appropriate automated collection techniques or other forms of information technology, e.g., permitting electronic submission of responses.

This Notice also lists the following information:

Title of Proposal: Survey of Neighborhood Networks Centers—Amended Title: Neighborhood Networks Data Collection Management and Tracking Data Collection Instruments.

OMB Control Number, if applicable: 2502-0553.

Description of the need for the information and proposed use: Launched by HUD's Office of Multifamily Housing Programs in September 1995, Neighborhood Networks is a community-based initiative that encourages the development of resource and community technology centers in HUD insured and assisted housing. In 2003, HUD conducted a national survey of Neighborhood Networks center directors to document center characteristics and identify commonalities and trends to guide the direction of the Neighborhood Networks initiative.

The Office of Multifamily Housing Programs is requesting clearance for a more comprehensive data collection instrument in 2004. The data collection is designed with the objective of merging information currently captured in a paper business plan with data currently collected through the survey of center directors. This approach will be a multi-step iterative process as the business plan is evolving from a paper submission to an enhanced and more comprehensive online tool known as START—the Strategic Tracking and Reporting Tool. Once the transition is complete, START will be the mechanism by which all center data are collected.

Agency form numbers, if applicable: None.

Estimation of the total numbers of hours needed to prepare the information collection including number of respondents, frequency of response, and hours of response: There are approximately 1200 Neighborhood Networks Centers located in HUD insured and assisted housing properties. The hourly burden per respondent for the one-time telephone survey is estimated at 40 minutes. The hourly burden for referencing and completing the Data Collection Worksheet (if necessary) is estimated at 30 minutes. The survey response rate is estimated at 70 percent, resulting in an overall response burden of 560 hours for the telephone survey.

A response rate of 70 percent and 30 minutes to gather data will result in an overall response burden of 420 hours for completing the Data Collection Worksheet. The total annualized burden is estimated at 980 hours.

The hourly burden per respondent for the online business plan and reporting tool (START) is estimated at 3.5 hours. This includes time for reviewing and completing the workbook and users guide. Approximately 80 of the 1200 Neighborhood Networks centers currently in operation are using START—a participation rate of approximately 7 percent. It is anticipated that online business plan development and reporting will increase to roughly 10 percent over the next few months. A participation rate of 10 percent and an average of 3.5 hours to complete the tool will result in an overall annual response burden of 420 hours.

Approximately 800 (or 67 percent) of the 1,200 Neighborhood Networks centers currently have a formal paper business plan. Based on an average of 2 hours to complete/update a business plan, the estimated overall annual response burden is 1,600 hours.

Status of the proposed information collection: Revision of a currently approved collection.

Authority: The Paperwork Reduction Act of 1995, 44 U.S.C., Chapter 35, as amended.

Dated: March 29, 2004.
Sean G. Cassidy,
General Deputy Assistant Secretary for Housing-Deputy Federal Housing Commissioner.

[FR Doc. 04-7506 Filed 4-1-04; 8:45 am]

BILLING CODE 4210-27-M